SMALL BUSINESS ADMINISTRATION

[Disaster Declaration # 13711 and # 13712]

North Carolina Disaster # NC-00054

AGENCY: U.S. Small Business Administration.

ACTION: Notice.

SUMMARY: This is a notice of an Administrative declaration of a disaster for the State of North Carolina dated 08/06/2013.

Incident: Severe storms and flooding.

Incident Period: 07/12/2013 through 07/27/2013.

DATES: Effective Date: 08/06/2013.

Physical Loan Application Deadline Date: 10/07/2013.

Economic Injury (EIDL) Loan Application Deadline Date: 05/06/2014.

ADDRESSES: Submit completed loan applications to: U.S. Small Business Administration, Processing And Disbursement Center, 14925 Kingsport Road, Fort Worth, TX 76155.

FOR FURTHER INFORMATION CONTACT: Alan Escobar, Office of Disaster Assistance, U.S. Small Business Administration, 409 3rd Street SW., Suite 6050, Washington, DC 20416.

SUPPLEMENTARY INFORMATION: Notice is hereby given that as a result of the Administrator's disaster declaration, applications for disaster loans may be filed at the address listed above or other locally announced locations.

The following areas have been determined to be adversely affected by the disaster:

Primary Counties: Catawba

Contiguous Counties: North Carolina

Alexander, Burke, Caldwell, Iredell, Lincoln

The Interest Rates are:

| Percent
For Physical Damage:
Homeowners with Credit Available Elsewhere | 3.750
Homeowners without Credit Available Elsewhere | 1.875
Businesses with Credit Available Elsewhere | 6.000
Businesses without Credit Available Elsewhere | 4.000
Non-Profit Organizations with Credit Available Elsewhere | 2.875
Non-Profit Organizations without Credit Available Elsewhere | 2.875
For Economic Injury:
Businesses & Small Agricultural Cooperatives without Credit Available Elsewhere | 4.000
Non-Profit Organizations without Credit Available Elsewhere | 2.875

The number assigned to this disaster for physical damage is 13711 6 and for economic injury is 13712 0.

The State which received an EIDL Declaration # is North Carolina.

(Catalog of Federal Domestic Assistance Numbers 59002 and 59008)

Dated: August 6, 2013.
Karen G. Mills,
Administrator.

[FR Doc. 2013-19498 Filed 8-12-13; 8:45 am]

BILLING CODE 8025-01-P